DEPARTMENT OF AGRICULTURE

Submission for OMB Review; Comment Request

December 10, 2002.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Agricultural Research Service

Title: Meeting the Information Requirements of the Animal Welfare Act Workshop Registration Form.

OMB Control Number: 0158-NEW.

Summary of Collection: The U.S. Department of Agriculture, National Agricultural Library (NAL), Animal Welfare Information Center conducts a workshop titled “Meeting the Information Requirements of the Animal Welfare Act”. The proposed registration from collects information from interested parties necessary to register them for the workshop. The information includes: workshop data preferences, signature, name, title, organization name, mailing address, phone and fax numbers and email address. The information will be collected using online and printed versions of the form. Also forms can be fax or mailed.

Need and Use of the Information: NAL will collect information to register participants, contact them regarding schedule changes, control the number of participants due to limited resources and training space, and compile and customize class materials to meet the needs of the participants. Failure to collect the information would prohibit the delivery of the workshop and significantly inhibit NAL's ability to provide up-to-date information on the requirements of the Animal Welfare Act.

Description of Respondents: Not-for-Profit Institutions; Business or Other for-profit; Federal Government; State, Local, or Tribal Government.

Number of Respondents: 100.

Frequency of Responses: Reporting: On occasion.

Total Burden Hours: 8.

Cooperative State Research, Education, and Extension Service

Title: Application Kit for Research and Extension Programs.

OMB Control Number: 0524-0039.

Summary of Collection: The United States Department of Agriculture (USDA), Cooperative State Research, Education, and Extension Service (CSREES) administers several competitive, peer-previewed research and extension programs, under which awards of a high-priority nature are made. These programs are authorized pursuant to the authorities contained in the National Agricultural Research, Extension, and Teaching Policy Act of 1977, as amended (7 U.S.C. 3101), the Smith-Lever Act, and a variety of other legislative authorities. Before grants can be awarded, certain information is required from applicants as part of an overall package. Because the proposals submitted are competitive in nature and necessitate review by peer panelists, it is particularly important that applicants provide the information in a standardized fashion to ensure equitable treatment for all. CSREES will collect information using forms CSREES 2002, 2003, 2004, 2005, 2006, 2007, and 2008 and 2010.

Need and Use of the Information: CSREES will collect the following information: Program Summary and Narrative, Credentials, Budget, Identification of Conflicts of Interest, and Collect of Environmental Impact Information. The information will reduce the potential for errors or omissions of important data essential in the proposal review and award process. The information will be used to respond to inquiries from Congress, other governmental agencies, and the grantee community.

Description of Respondents: Not-for-profit institutions; Business or other for-profit; Individuals or households; Federal Government; State, Local or Tribal Government.

Number of Respondents: 9,450.

Frequency of Responses: Reporting: On occasion.

Total Burden Hours: 156,813.

Cooperative State Research, Education, and Extension Service

Title: Questionnaire for Potential Reviewers.

OMB Control Number: 0524-NEW.

Summary of Collection: The United States Department of Agriculture (USDA), Cooperative State Research, Education, and Extension Service (CSREES) administers several competitive, peer-reviewed research and extension programs, under which awards of a high-priority nature are made. These programs are authorized pursuant to the authorities contained in the National Agricultural Research, Extension, and Teaching Policy Act of 1977, as amended (7 U.S.C. 3101), the Smith-Lever Act, and a variety of other legislative authorities. CSREES receives approximately 6,000 research, education, and extension proposals per year, of which approximately 2,000 are awarded. The majority of these; proposals are subject to a rigorous peer-review process involving technical experts located worldwide. Given the highly technical nature of many of the proposals, the quality of the peer-review greatly depends on the appropriate matching of the proposal subject matter with the technical expertise of the reviewer. As a result, a single database of technical experts is an invaluable tool for CSREES in accomplishing a suitable marriage of proposal content with reviewer experts. CSREES is seeking clearance to conduct a survey in the form of a questionnaire sent to individuals who have the technical expertise. The survey will be done by email, hard copy or other appropriate mechanism.

Need and Use of the Information: CSREES will collect information to enable a program officer to perform searches for specific technical expertise and the expressed willingness to be a reviewer and will also allow a program officer to consider, for example, conflict-of-interest issues and a balanced composition of reviewers. This process enables the program officer to identify, in an expeditious and efficient manner, the most appropriate reviewers.

Description of Respondents: Individuals or households.

Number of Respondents: 75,000.

Frequency of Responses: Reporting: Annually.

Total Burden Hours: 12,500.

Foreign Agricultural Service

Title: CCC's Export Credit Guarantee program (GSA-102), Intermediate Credit Guarantee Program (GSM-103) Supplier Credit Guarantee Program (SCGP).

OMB Control Number: 0551-004.

Summary of Collection: The Commodity Credit Corporation (CCC) of the U.S. Department of Agriculture administers under 7 CFR Part 1493, the Export Credit Guarantee Program (GSM-102), the intermediate Export Credit program (GSM-103), and Supplier Credit Guarantee Program (SCGP). These programs provide guarantees to exporters in order to maintain and increase overseas importers ability to purchase U.S. agricultural goods. The Export Credit Guarantee Programs are designed to stimulate U.S. private sector financing of foreign purchases of U.S. agricultural commodities on credit terms. Since the Export Credit Guarantee Programs operate off commercial sales, the majority of the information required for program participation, including the guarantee application, evidence of export report, assignment notice, and filing of notices of default. The Foreign Agricultural Service (FAS) will collect information from the guarantee applications submitted by the participants by telephone, mail, or fax.

Need and Use of the Information: FAS will collect information from participating U.S. exporters in order to determine the exporters eligibility for program benefits. The information is also used in fulfilling CCC obligation under the issued payment guarantee. If the information were not collected CC would be unable to determine if export sales under the programs would be eligible for coverage or, if coverage conformed to program requirements.

Description of Respondents: Business or other for-profit.

Number of Respondents: 857.

Frequency of Responses: Record keeping, Reporting: On occasion.

Total Burden Hours: 11,415.

Foreign Agricultural Agency

Title: Emergency Relief from Duty-Free Imports of Perishable Products Under the Andean Trade Promotion and Drug Eradication Act (ATPDEA).

OMB Control Number: 0551-0033.

Summary of Collection: The Andean Trade Preference Act (the Act) (19 U.S.C. 3201 et seq.) was signed into law on December 4, 1991 and expired December 4, 2001. Section 3104 of H.R. 3009, the “Trade Act of 2002” amended section 208(b) of the Act to extend the termination date to December 31, 2006, retroactive to December 4, 2001. The Act authorizes the President to provide duty-free treatment to imports from Bolivia, Colombia, Ecuador, and Peru, except for specifically excluded products. Section 204(d) provides, in part, that a petition for emergency import relief maybe filed with the Secretary of Agriculture at the same time a petition for import relief is filed with the United States International Trade Commission (ITC). Emergency import relief is limited to restoration of general tariffs during the period of the ITC's investigation.

Need and Use of the Information: The Foreign Agricultural Service will collect the following information to be included in a petition: a description of the imported perishable product concerned; country of origin of imports data indicating increased imports are a substantial cause of serious injury to the domestic industry producing a like or directly competitive product; evidence of serious injury; and a statement indicating why emergency action would be warranted. The information collected provides essential data for the Secretary regarding specific market conditions with respect to the industry requesting emergency relief.

Description of Respondents: Business or other for-profit; Farms; Individuals or households.

Number of Respondents: 2.

Frequency of Responses: Reporting; On occasion.

Total Burden Hours: 46.

Farm Service Agency

Title: Request for Direct Loan Assistance.

OMB Control Number: 0560-0167.

Summary of Collection: Section 302 (7 U.S.C. 1922) of the Consolidated Farm and Rural Development Act (CONACT) provides that the Secretary is authorized to make and insure loans under this title to farmers and ranchers. The Farm Service Agency (FSA) has issued regulations through the Federal Register process to implement the making and servicing of direct loans in chapter 18 of the Code of Federal Regulations. These regulations establish the information collection necessary for FSA to make and service direct loans. The loans include Operating, Farm Ownership. Soil and Water, Softwood Timber Production, Emergency, Economic Emergency, Economic Opportunity, Recreation, and Rural Housing loans for farm service building. FSA will collect information using form FSA 410-1.

Need and Use of the Information: FSA will collect information to determine if the applicant/borrower meets the eligibility requirements established in the CONACT. FSA will also collect the following information: name, address, telephone number; social security number; type of farming operation; information relating to the applicant's credit history; the source and amount of nonfarm income, and a financial statement. If the information were not collected FSA would not be able to make an accurate eligibility and financial feasibility determination on respondents' request for new loans and loan servicing actions.

Description of Respondents: Farm; Federal Government; Business or other-for-profit; Individuals or household.

Number of Respondents: 48,321.

Frequency of Responses: Reporting: Other (when applying for benefits).

Total Burden Hours: 96,642.

Rural Utilities Service

Title: Use of Consultants Funded by Borrowers, 7 CFR 1789.

OMB Control Number: 0572-0115.

Summary of Collection: The Rural Utilities Service (RUS) is a credit agency of the Department of Agriculture that makes mortgage loans and loan guarantees to finance electric, telecommunications, and water and waste facilities in rural areas. The loan programs are managed in accordance with the Rural Electrification Act (RE Act) of 1936, 7 U.S.C. 901 et seq., as amended, and as prescribed by Office of Management and Budget Circular A-129, Policies for Federal Credit programs and Non-Tax Receivable, which states that agencies must, based on a review of a loan application, determine that an applicant complies with statutory, regulatory, and administrative eligibility requirements for loan assistance. RUS has the authority to use consultants voluntarily funded by borrowers for financial, legal, engineering, and other technical services. However, all RUS borrowers are eligible to fund consultant services but are not required to fund consultants.

Need and Use of the Information: RUS will collect information to determine whether it is appropriate to use a consultant voluntarily funded by the borrower to expedite a particular borrower application. If the information were not submitted, RUS would be unable to determine if using a consultant would accelerate the specific application process.

Description of Respondents: Not-for-profit institutions; Business or other for-profits.

Number of Respondents: 6.

Frequency of Responses: Reporting: On Occasion.

Total Burden Hours: 12.

Rural Utilities Service

Title: Broadband pilot grant program.

OMB Control Number: 0572-0127.

Summary of Collection: The Rural Utilities Service has the responsibility to deploy a Broadband Pilot Grant Program to provide broadband infrastructure to rural, lower income communities on a “community-oriented connectivity” basis. This service is intended to promote economic development and provide enhanced educational and health care opportunities.

Need and Use of the Information: RUS' will provide financial assistance in the form of grants to eligible entities to provide broadband transmission service in rural communities where such service does not currently exist. RUS will use the information to determine that funds needed to complete the project are adequate based on the amount requested.

Description of Respondents: Business or other for-profit; Not-for-profit institutions; State, Local or Tribal Government.

Number of Respondents: 300.

Frequency of Responses: Reporting; On occasion.

Total Burden Hours: 48,010.

Rural Housing Service

Title: 7 CFR 3550—Direct Single Family Housing Loan and Grant Program, HB-1-3550, HB-2-3550.

OMB Control Number: 0575-0172.

Summary of Collection: The Rural Housing Service (RHS) is a credit agency for rural housing and community development within the Rural Development mission area of the Department of Agriculture. Section 501 of Title V of the Housing Act of 1949, as amended, authorizes the Secretary of Agriculture to administer such programs and to prescribe regulations to ensure that these loans and grants provided with Federal funds are made to eligible applicants for authorized purposes, and that subsequent servicing an benefits provided to borrowers are consistent with the authorizing statute. RHS offers a supervised credit program to extend financial assistance to construct, improve, alter, repair, replace or rehabilitate dwellings, which will provide modest, decent, safe, and sanitary housing to eligible individuals living in rural areas. To assist individuals in obtaining affordable housing, a borrower's house payment may be subsidized to an interest rate as low as 1%. The information requested by RHS is vital to be able to process applications for RHS assistance and make prudent credit and program decisions. RHS will collect information using several forms.

Need and Use of the Information: RHS will collect information to verify program eligibility requirements; continued eligibility requirements for borrower assistance; servicing of loans; eligibility for special servicing assistance such as: payment subsidies, moratorium (stop) on payments, delinquency workout agreements; liquidation of loans; and, debt settlement. The information is used to ensure that the direct Single Family Housing Programs are administered in a manner consistent with legislative and administrative requirements. Without the information RHS would be unable to determine if a borrower would qualify for services or if assistance has been granted to which the customer would not be eligible under current regulations and statutes.

Description of Respondents: Individuals or households; Business or other for-profit; Not-for-profit institutions; State, Local or Tribal Government.

Number of Respondents: 500,000.

Frequency of Responses: Reporting; On occasion; Annually.

Total Burden Hours: 513,872.

Animal and Plant Health Inspection Service

Title: Animal Welfare Licensing and inspection Requirements for Dealers of Dogs Intended for Hunting, Breeding, or Security Purpose.

OMB Control Number: 0579-0169.

Summary of Collection: The Laboratory Animal Welfare Act (AWA) P.L. 890544 enacted August 24, 1966, requires the U.S. Department of Agriculture (USDA) to regulate the humane care and handling of dogs, cats, guinea pigs, hamster, rabbits, and nonhuman primates.

The legislation was the result of extensive demand by organized animal welfare groups and private citizens requesting a Federal law covering the transportation, care, and handling of laboratory animals. As part of these standards, the Animal and Plant health Inspection Service (APHIS) must regulate dealers of dogs used for hunting, security, or breeding purposes. APHIS will collect information using several forms.

Need and Use of the Information: APHIS will collect information (1) to insure that animals intended for use in research facilities or exhibition purposes or for use as pets are provided humane care and treatment; (2) to assure the humane treatment of animals during transportation in commerce; and (3) to protect the owners of animals from the theft of their animals by preventing the sale or use of animals which have been stolen. The information collected will help determine whether a reporting facility is following professionally acceptable standards governing care, treatment, and use of animals. Without the information it would be impossible to enforce the AWA program, perform compliance investigations, or initiate proceedings against violators.

Description of Respondents: Business or other for-profit.

Number of Respondents: 12.

Frequency of Responses: Recordkeeping; Reporting; On occasion.

Total Burden Hours: 16.

Agricultural Marketing Service

Title: Lamb Promotion, Research and Information Program: Rules and Regulations.

OMB Control Number: 0581-0203.

Summary of Collection: The agricultural Marketing Service (AMS) has the responsibility for the national commodity research and promotion programs. The authority for the Lamb Promotion, Research, and Information Order is established under the Commodity Promotion, Research, and Information Act of 1996. These programs carry out projects relating to research, consumer information advertising, producer information, market development, and product research with the goal of maintaining and expanding their existing markets and uses and strengthening their position in the marketplace.

Need and Use of the Information: The Certification of Non-Producer status Form is used by market agencies to certify that certain transactions are exempt from assessments and were resold not later than 10 days from the date on which the agency acquired ownership and no additional assessment was due. The information required by this form is not available from any other source because it relates specifically to individual lamb producers, feeders, seedstock producers, first handlers and exporters.

Description of Respondents: Farms; individuals or households; Business or other for-profit.

Number of Respondents: 3,318.

Frequency of Responses: Recordkeeping; Reporting; Monthly.

Total Burden Hours: 1,195.

Food Safety and Inspection Service

Title: Survey of Egg, Meat, and Poultry Plants: Current Practices and Technologies for Controlling Pathogens in Manufacturing Processes.

OMB Control Number: 0583-NEW.

Summary of Collection: The Food Safety and Inspection Service (FSIS) has been delegated the authority to exercise the functions of the Secretary as provided in the Federal Meat Inspection Act (FMIA) (21 U.S.C. 601 et. seq.), the Poultry Products Inspection Act (PPIA) (21 U.S.C. 451, et. seq.), and the Egg Products Inspection Act (EPIA) (21 U.S.C. 1031-1056). These statutes mandate that FSIS protect the public by ensuring that meat, poultry, and egg products are safe, wholesome, unadulterated, and properly labeled and packaged. FSIS will conduct surveys of egg, meat, and poultry plants. The survey will provide accurate and up-to-date information about current practices and technologies used in the egg, meat, and poultry industries to control and reduce pathogens in their manufacturing processes.

Need and Use of the Information: FSIS will collect information to establish an accurate, quantitative baseline for pathogen control, sanitation, testing, training, and other practices used by egg, meat, and poultry plants. FSIS will also use the information collected to determine whether specific regulatory actions are needed, and if so, the types of regulatory actions that will achieve desired objectives in the most efficient and effective manner. Without the information FSIS would have insufficient quantitative information about practices and technologies used in the eggs, meat, and poultry industries to control or reduce pathogens in manufacturing processes.

Description of Respondents: Business or other for-profit.

Number of Respondents: 1,309.

Frequency of Responses: Reporting: On occasion.

Total Burden Hours: 741.7.

Food and Nutrition Service

Title: 7 CFR Part 215—Special Milk Program for Children.

OMB Control Number: 0584-0005.

Summary of Collection: Section 3 of the Child Nutrition Act (CNA) of 1966 (P.L. 89-642, as amended; 42 U.S.C. 1772) authorizes the Special Milk Program (SMP) for Children. The SMP is a food assistance program whose objective is to encourage children to consume milk. The program provides the availability of federally subsidized milk, which is delivered through nonprofit milk service operations run by schools and institutions. Such organizations may operate the SMP in either a pricing or nonpricing mode. Needy children in organizations that operate the SMP in its pricing mode may receive their milk free if the sponsoring organization elects to serve free milk. Although the responsibility for administering the SMP at the Federal level has been assigned to USDA, the enabling legislation requires that SMP operations within the states be administered by State Agencies (SAs).

Need and Use of the Information: The Food and Nutrition Service (FNS) will collect information to compute the amount of Federal SMP funds due the SA under the performance-funding formula; analyze and evaluate the results of program operation within each state and nationwide; respond to data requests from the Congress, OMB, and advocacy groups and the general public; develop budget projections of the amount of Federal funds needed to pay SMP program benefits; and regulate the flow of Federal funds to SA. Without this information FNS would not be able to evaluate program operations.

Description of Respondents: State, Local, and Tribal Government; Business or other for-profit; Not-for-profit institutions.

Number of Respondents: 15,199.

Frequency of Responses: Recordkeeping; Reporting: Monthly; Annually.

Total Burden Hours: 702,767.

Food and Nutrition Service

Title: Food Stamp Forms: Applications, Periodic Reporting, Notices.

OMB Control Number: 0584-0064.

Summary of Collection: The Food Stamp Act of 1977 (the Act) establishes a program whereby needy households may apply for and receive food stamp benefits. The Act requires certain reporting and recordkeeping requirements in administering the program. The Act specifies national eligibility standards and impose certain administrative requirements on State agencies in administering the program. Information must be collected from households to assure that they are eligible for the program and that they receive the correct amount of food stamp benefits. Information collected is limited to that necessary for the administration and enforcement of the Food Stamp Program. The Food and Nutrition Service (FNS) will use an application to collect information. Fours laws modify or add additional information collected, reporting, and recordkeeping requirement associated with the application and certification of households for the Food Stamps Program: The four laws are: Public Law 104-193, the Personal Responsibility and Work Opportunity Reconciliation Act (PRWORA), dated 8/22/96; Public Law 104-208, the Omnibus Consolidated Appropriations Act (OCAA), dated 9/30/96; Public Law 105-33, the Balanced Budget Act (BBA), dated August 5, 1997; and Public Law 105-185, the Agricultural Research, Extension and Education Reform Act of 1998 (AREERA), dated June 23, 1998. The various provisions of these laws are implemented at 7 CFR Part 272, 273, and 274.

Need and Use of the Information: FNS will collect information to determine the eligibility of households for the food stamp program and to determine the correct benefit levels for eligible households. The social security number will be used to check the identity of household members, to prevent duplicate participation, to make mass food stamp changes, and to verify information. If information is not collected to certify households in accordance with the Act or changing the frequency of information or reporting requirements as they relate to the application, certification, and continue eligibility of households would result in a direct violation of the Act and its implementing regulations. Further, benefits could be overissued or underissued for a long period of time if necessary information is not collected or actions are not taken timely.

Description of Respondents: State, Local, and Tribal Government; Individuals or household.

Number of Respondents: 18,131,799.

Frequency of Responses: Recordkeeping; Reporting: On occasion; Monthly; Quarterly.

Total Burden Hours: 28,333,895.

Farm Service Agency

Title: Brokerage Agreement for the Transportation of USDA Commodities.

OMB Control Number: 0560-NEW.

Summary of Collection: 49 U.S.C. 13102(2), 13712, and 49 CFR Chapter 10, Part 1090-1099, authorizes the Export Operations Division (EOD) to collect information to determine Broker compliance with KCCO requirements and to determine the eligibility of Brokers to haul agricultural products for the United States Department of Agriculture (USDA). Brokers must complete the Brokerage Agreement for the transportation of USDA commodities. The Brokerage Agreement is used to establish the transportation service needs of the USDA, Farm Service Agency (FSA), Kansas City Commodity Office (KCCO), operating as Commodity Credit Corporation (CCC), for the brokered movement of its freight.

Need and Use of the Information: FSA will collect information to ensure that the applicant has both the willingness and the capability to meet the needs of KCCO and to establish the rules for which the broker can expect corporation. Without the information, KCCO could not meet program requirements.

Description of Respondents: Business or other for-profit; Not-for-profit institutions; Federal Government; State, Local or Tribal Government.

Number of Respondents: 113.

Frequency of Responses: Reporting: Other (Once).

Total Burden Hours: 113.

Sondra Blakey,
Departmental Information Collection Clearance Officer.

[FR Doc. 02-31570 Filed 12-13-02; 8:45 am]

BILLING CODE 3410-01-M